DEPARTMENT OF STATE

[Public Notice: 12353]

Imposition of Nonproliferation Measures Against Foreign Persons, Including a Ban on U.S. Government Procurement

ACTION: Notice.

SUMMARY: A determination has been made that a number of foreign persons have engaged in activities that warrant the imposition of measures pursuant to the Iran, North Korea, and Syria Nonproliferation Act (INKSNA).

DATES: These measures are effective February 27, 2024.

FOR FURTHER INFORMATION CONTACT: On general issues: Pam Durham, Office of Missile, Biological, and Chemical Nonproliferation, Bureau of International Security and Nonproliferation, Department of State, Telephone (202) 647-4930. For U.S. Government procurement ban issues: Eric Moore, Office of the Procurement Executive, Department of State, Telephone: (703) 875-4079. Email: mooreen@state.gov.

SUPPLEMENTARY INFORMATION: The INKSNA provides for sanctions on foreign entities and individuals for the transfer to or acquisition from Iran since January 1, 1999; the transfer to or acquisition from Syria since January 1, 2005; or the transfer to or acquisition from the DPRK since January 1, 2006, of goods, services, or technology controlled under multilateral control lists (Australia Group, Chemical Weapons Convention, Missile Technology Control Regime, Nuclear Suppliers Group, Wassenaar Arrangement) or otherwise having the potential to make a material contribution to the development of weapons of mass destruction (WMD) or cruise or ballistic missile systems. The latter category includes: items of the same kind as those on multilateral lists but falling below the control list parameters when it is determined that such items have the potential of making a material contribution to WMD or cruise or ballistic missile systems; items on U.S. national control lists for WMD/missile reasons that are not on multilateral lists; and other items with the potential of making such a material contribution when added through case-by-case decisions.

On February 27, 2024, the U.S. Government applied the measures authorized in section 3 of the Iran, North Korea, and Syria Nonproliferation Act (Pub. L. 109-353) against the following foreign persons identified in the report submitted pursuant to section 2(a) of the Act:

PMC Wagner; and any successor, sub-unit, or subsidiary thereof;

Pavel Shevelin (Russian individual);

LLC Eltekhnord and any successor, sub-unit, or subsidiary thereof;

Rim Yo'ng-hyo'k (aka Rim Yong Hyok) (DPRK individual)

Russian Aerospace Forces (aka VKS); and any successor, sub-unit, or subsidiary thereof.

Accordingly, pursuant to section 3 of the Act, the following measures are imposed on these persons:

1. No department or agency of the U.S. Government may procure or enter into any contract for the procurement of any goods, technology, or services from these foreign persons, except to the extent that the Secretary of State otherwise may determine;

2. No department or agency of the U.S. Government may provide any assistance to these foreign persons, and these persons shall not be eligible to participate in any assistance program of the U.S. Government, except to the extent that the Secretary of State otherwise may determine;

3. No U.S. Government sales to these foreign persons of any item on the United States Munitions List are permitted, and all sales to these persons of any defense articles, defense services, or design and construction services under the Arms Export Control Act are terminated; and

4. No new individual licenses shall be granted for the transfer to these foreign persons of items the export of which is controlled under the Export Control Reform Act of 2018 or the Export Administration Regulations, and any existing such licenses are suspended.

These measures shall be implemented by the responsible departments and agencies of the U.S. Government and will remain in place for two years from the effective date, except to the extent that the Secretary of State may subsequently determine otherwise. These measures are independent of and in addition to any other sanctions imposed on such entities and/or individuals by other Federal agencies under separate legal authorities.

Ann K. Ganzer,
Acting Assistant Secretary for International Security and Nonproliferation, Department of State.

[FR Doc. 2024-04647 Filed 3-5-24; 8:45 am]

BILLING CODE 4710-27-P